DEPARTMENT OF ENERGY

Federal Energy Regulatory Commission

[3320-004]

William B. Ruger, Jr., 169 Sunapee Street, LLC; Notice of Transfer of Exemption

1. By letter filed November 16, 2016, 169 Sunapee Street, LLC informed the Commission that the exemption from licensing for the Sugar River I Project No. 3320, originally issued April 4, 1983¹ has been transferred to 169 Sunapee Street, LLC. The project is located on the Sugar River in Sullivan County, New Hampshire. The transfer of an exemption does not require Commission approval.

¹ 23 FERC ¶ 62,008, Notice of Exemption from Licensing (1983).

2. 169 Sunapee Street, LLC is now the exemptee of the Sugar River 1 Project No. 3320. All correspondence should be forwarded to: Mr. Ronald K. DeCola, Manager, 169 Sunapee Street, LLC, 300 River Road, Suite 110, Manchester, NH 03104, Phone: 603-289-2738, Email: rkd01@aol.com.

Dated: November 23, 2016.
Kimberly D. Bose,
Secretary.

[FR Doc. 2016-28848 Filed 11-30-16; 8:45 am]

BILLING CODE 6717-01-P